RAILROAD RETIREMENT BOARD

Agency Forms Submitted for OMB Review

SUMMARY: In accordance with the Paperwork Reduction Act of 1995 (44 U.S.C. Chapter 35), the Railroad Retirement Board (RRB) has submitted the following proposal(s) for the collection of information to the Office of Management and Budget for review and approval.

Summary of Proposal(s)

(1) Collection title: Voluntary Customer Surveys in Accordance with E.O. 12862.

(2) Form(s) submitted: G-201.

(3) OMB Number: 3220-0192.

(4) Expiration date of current OMB clearance: 7/31/2000.

(5) Type of request: Extension of a currently approved collection.

(6) Respondents: Individuals or households, Business or other-for-profit, Regulatory or Compliance.

(7) Estimated annual number of respondents: 2,050.

(8) Total annual responses: 2,050.

(9) Total annual reporting hours: 727.

(10) Collection description: The Railroad Retirement Board (RRB) utilizes voluntary customer surveys to ascertain customer satisfaction with the RRB in terms of timeliness, appropriateness, access, and other measures of quality service. Surveys involve individuals that are direct or indirect beneficiaries of RRB services as well as railroad employers who must report earnings.

ADDITIONAL INFORMATION OR COMMENTS:

Copies of the forms and supporting documents can be obtained from Chuck Mierzwa, the agency clearance officer (312-751-3363). Comments regarding the information collection should be addressed to Ronald J. Hodapp, Railroad Retirement Board, 844 North Rush Street, Chicago, Illinois, 60611-2092 and the OMB reviewer, Joe Lackey (202-395-7316), Office of Management and Budget, Room 10230, New Executive Office Building, Washington, D.C. 20503.

Chuck Mierzwa,
Clearance Officer.

[FR Doc. 00-14413 Filed 6-7-00; 8:45 am]

BILLING CODE 7905-01-M